DEPARTMENT OF ENERGY

Federal Energy Regulatory Commission

Combined Notice of Filings #1

Take notice that the Commission received the following electric corporate filings:

Docket Numbers: EC23-67-000.

Applicants: Foxhound Solar, LLC, Dominion Solar Projects VI, Inc.

Description: Foxhound Solar, LLC et. al. submits Response to FERC's April 19, 2023 Deficiency Letter re the Application for Authorization Pursuant to Section 203 of the Federal Power Act.

Filed Date: 5/16/23.

Accession Number: 20230516-5116.

Comment Date: 5 p.m. ET 5/30/23.

Take notice that the Commission received the following exempt wholesale generator filings:

Docket Numbers: EG23-173-000.

Applicants: Horus Louisiana I, LLC.

Description: Horus Louisiana I, LLC submits Notice of Self-Certification of Exempt Wholesale Generator Status.

Filed Date: 5/25/23.

Accession Number: 20230525-5136.

Comment Date: 5 p.m. ET 6/15/23.

Take notice that the Commission received the following electric rate filings:

Docket Numbers: ER18-99-008.

Applicants: Southwest Power Pool, Inc.

Description: Compliance filing: South Central MCN LLC Compliance Filing Pursuant to Order Issued to be effective 4/1/2018.

Filed Date: 5/26/23.

Accession Number: 20230526-5026.

Comment Date: 5 p.m. ET 6/16/23.

Docket Numbers: ER23-1161-000.

Applicants: Pacific Gas and Electric Company.

Description: Refund Report: CCSF Refund Report for missed Unmetered Points (WDT SA 275) to be effective N/A.

Filed Date: 5/26/23.

Accession Number: 20230526-5000.

Comment Date: 5 p.m. ET 6/16/23.

Docket Numbers: ER23-1972-000.

Applicants: Energy Harbor LLC.

Description: Request for Waiver and Expedited Consideration of Energy Harbor LLC.

Filed Date: 5/25/23.

Accession Number: 20230525-5197.

Comment Date: 5 p.m. ET 6/15/23.

Docket Numbers: ER23-1973-000.

Applicants: BE-Pine 1 LLC.

Description: Baseline eTariff Filing: Baseline new to be effective 5/27/2023.

Filed Date: 5/26/23.

Accession Number: 20230526-5111.

Comment Date: 5 p.m. ET 6/16/23.

Docket Numbers: ER23-1975-000.

Applicants: Tri-State Generation and Transmission Association, Inc.

Description: § 205(d) Rate Filing: Initial Filing of Service Agreement No. 911 to be effective 4/27/2023.

Filed Date: 5/26/23.

Accession Number: 20230526-5120.

Comment Date: 5 p.m. ET 6/16/23.

Docket Numbers: ER23-1976-000.

Applicants: PJM Interconnection, L.L.C.

Description: § 205(d) Rate Filing: Amendment to ISA, Service Agreement No. 6163; Queue No. AD1-155 to be effective 7/26/2023.

Filed Date: 5/26/23.

Accession Number: 20230526-5137.

Comment Date: 5 p.m. ET 6/16/23.

Docket Numbers: ER23-1977-000.

Applicants: California Independent System Operator Corporation.

Description: § 205(d) Rate Filing: 2023-05-26 Recollation-Assigning New Collation Values (no tariff changes) 1 of 2 to be effective 6/28/2010.

Filed Date: 5/26/23.

Accession Number: 20230526-5166.

Comment Date: 5 p.m. ET 6/16/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 26, 2023.
Kimberly D. Bose,
Secretary.

[FR Doc. 2023-11764 Filed 6-1-23; 8:45 am]

BILLING CODE 6717-01-P